NATIONAL ARCHIVES AND RECORDS ADMINISTRATION

[NARA-23-0016; NARA-2024-012]

Records Schedules; Notice of Withdrawal

AGENCY: National Archives and Records Administration (NARA).

ACTION: Notice; withdrawal.

SUMMARY: On January 23, 2024, the National Archives and Records Administration (NARA) published a Federal Register notice to allow public comment on the records schedules listed at the end of this notice. The notice is hereby withdrawn.

DATES: The document published at 89 FR 4340 on January 23, 2024, is withdrawn as of January 29, 2024.

FOR FURTHER INFORMATION CONTACT: Kimberly Richardson, Strategy and Performance Division, by email at regulation_comments@nara.gov. For information about records schedules, contact Records Management Operations by email at request.schedule@nara.gov or by phone at 301-837-1799.

SUPPLEMENTARY INFORMATION:

Public Comment Procedures

We publish notice of records schedules in which agencies propose to dispose of records they no longer need to conduct agency business. We invite public comments on these records schedules, as required by 44 U.S.C. 3303a(a), and list the schedules at the end of this notice by agency and subdivision requesting disposition authority.

When the records schedule notice was published on January 23, 2024, at 89 FR 4340, the docket was assigned an incorrect number and the link to the URL for the regulations.gov docket for the schedules was incorrect. Due to these clerical errors, the notice will be withdrawn and the schedules will be reposted as soon as possible in a new notice, allowing the full 45-day comment period for the public to submit comments.

Schedules Withdrawn

1. Department of Defense, Defense Contract Audit Agency, Records related to Security and Intelligence (DAA-0372-2022-0001).

2. Department of Health and Human Services, Office of Medicare Hearings and Appeals, Administrative Law Judge and Attorneys Files (DAA-0468-2023-0003).

3. Department of Homeland Security, Federal Emergency Management Agency, Mission Training Records (DAA-0311-2022-0001).

4. Department of Homeland Security, U.S. Citizenship and Immigration Services, Teacher Training for Citizenship Education Records (DAA-0566-2022-0002).

5. Department of Homeland Security, U.S. Customs and Border Protection, Promissory Notes (DAA-0568-2023-0003).

6. Department of the Navy, Agency-Wide, Telecommunications and Information Technology (DAA-NU-2019-0009).

7. Central Intelligence Agency, Agency-wide, Mission Related Data (DAA-0263-2018-0001).

8. National Security Agency, Agency-wide, Transaction Monitoring (DAA-0457-2024-0001).

Laurence Brewer,
Chief Records Officer for the U.S. Government.

[FR Doc. 2024-01660 Filed 1-26-24; 8:45 am]

BILLING CODE 7515-01-P